DEPARTMENT OF THE INTERIOR

Bureau of Land Management

[NM-220-1610-DO-026G]

Notice of Intent To Prepare a Resource Management Plan Revision (RMPR) for the Taos Field Office, New Mexico, and Associated Environmental Impact Statement (EIS)

AGENCY: Bureau of Land Management, Interior.

ACTION: Notice of intent.

SUMMARY: The Bureau of Land Management (BLM) Field Office, Taos, New Mexico, intends to prepare a Resource Management Plan Revision with an associated Environmental Impact Statement (EIS) for the Taos Field Office and by this notice is announcing public scoping meetings. The RMPR will revise the existing Taos Resource Management Plan.

DATES: The BLM will announce public scoping meetings to identify relevant issues through local news media, newsletters and the BLM Web site http://www.nm.blm.gov/tafo/taos_rmpa/taos_rmpa.htm at least 15 days prior to the first meeting. We will provide formal opportunities for public participation upon publication of the Draft RMPR/EIS.

ADDRESSES: You may submit comments by any of the following methods:

• Web site: http://www.nm.blm.gov/tafo/taos_rmpr/taos_rmpr.htm.

• Fax: (505) 758-1620.

• Mail: Attn: RMPR Comments, BLM-Taos, 226 Cruz Alta Rd., Taos, NM 87571.

Documents pertinent to this proposal may be examined at the Taos Field Office.

FOR FURTHER INFORMATION CONTACT: For further information and/or to have your name added to our mailing list, contact Ms. Sharon “Sher” Churchill, telephone (505) 751-4725; e-mail sharon_churchill@nm.blm.gov.

SUPPLEMENTARY INFORMATION: This document provides notice that the BLM Field Office, Taos, New Mexico, intends to prepare a RMPR with associated EIS for the Taos Field Office and announces public scoping meetings.

The planning area is located in Taos, Rio Arriba, Santa Fe, Colfax, Harding, Los Alamos, Mora, San Miguel and Union counties in the state of New Mexico. This planning activity encompasses approximately 593,659 surface acres of public land and 4,331,946 acres of Federal mineral estate. The plan revision will fulfill the obligations set forth by the National Environmental Policy Act (NEPA), the Federal Land Policy and Management Act (FLPMA), and BLM management policies. The BLM will work collaboratively with interested parties to identify the management decisions that are best suited to local, regional, and national needs and concerns.

The purpose of the public scoping process is to determine relevant issues that will influence the scope of the environmental analysis and EIS alternatives. These issues also guide the planning process. You may submit comments on issues and planning criteria in writing to the BLM at any public scoping meeting or you may submit them to the BLM using one of the methods listed in the ADDRESSES section above. To be most helpful, you should submit formal scoping comments within 30 days after the last public meeting. The minutes and list of attendees for each scoping meeting will be available to the public and open for 30 days after the meeting to any participant who wishes to clarify the views he or she expressed. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

Preliminary issues and management concerns have been identified by BLM personnel, other agencies, and in meetings with individuals and user groups. They represent the BLM's knowledge to date regarding the existing issues and concerns with current land management. The major issues that will be addressed in this planning effort include land tenure adjustment, land uses, special area designations, visual resource management, off-highway vehicle use, and minerals materials. After public comments as to what issues the plan revision should address are gathered, they will be placed in one of three categories:

1. Issues to be resolved in the plan revision;

2. Issues to be resolved through policy or administrative action; or

3. Issues beyond the scope of this plan revision.

The BLM will provide an explanation in the plan revision as to why we placed an issue in category two or three. In addition to these major issues, a number of management questions and concerns will be addressed in the plan revision. The public is encouraged to help identify these questions and concerns during the scoping phase.

Preliminary planning criteria are:

1. Actions must comply with laws, regulations, executive orders, and BLM Manual (i.e., supplemental program guidance).

2. Actions must be reasonable, achievable, allow for flexibility where appropriate, and support adaptive management principles.

3. The Taos RMP Revision will change Field Office management guidance in a number of program areas by either modifying existing direction or adding new direction. As appropriate, RMPR guidance will be developed within an adaptive management framework, providing context and identifying processes and tools for implementing adaptive management.

4. The planning process will include an environmental impact statement that complies with National Environmental Policy Act standards.

5. The planning process will follow guidance provided in the BLM Land Use Planning Handbook H-1610-1.

6. The planning process will be conducted using an interdisciplinary approach.

7. While ensuring conformance with BLM policies and Federal laws, the planning team and Taos Field Office manager will strive to make RMP Revision decisions consistent with existing plans and policies of adjacent local, state, and Federal agencies, to the extent possible.

8. A collaborative approach to public and agency participation will be used throughout the planning process. The Taos RMP Revision planning team will work collaboratively with county, municipal and Tribal governments; other Federal, state and local agencies; interested individuals and groups; and other BLM staff groups.

9. The Economic Profile System (EPS) will be used as one source of demographic and economic data for the planning process. EPS data will provide important baseline data and contribute to estimates of existing and future (projected) social and economic conditions. Socio-cultural and economic analysis will subsequently be performed to identify impacts of the potential management alternatives on the diverse populations within the planning area.

10. As required in the Land Use Planning Handbook H-1610-1, EPS workshops will be conducted with community participants from Santa Fe and Rio Arriba Counties. These workshops will be held to foster strong working relationships with county residents and to share information and perspectives about local economic conditions.

11. The RMP Revision process will foster participation of Native American tribal governments and will provide strategies for protection of cultural resources and traditional cultural practices on public lands.

12. The RMP Revision process will emphasize focused, collaborative work with communities to identify public lands and resources upon which they currently rely and/or will rely in the future. This work will center on identifying current and future land use and land ownership patterns that support communities while meeting BLM's overarching mission and goals, and identifying areas with potential for a modified or new special designation status and associated benefits to local communities, the general public and BLM.

13. The RMP Revision will recognize valid existing rights related to the use of public lands.

The BLM will use an interdisciplinary approach to develop the plan revision in order to consider the variety of resource issues and concerns identified. Specialists with expertise in the following disciplines will be involved in the planning process: sociology and economics; archaeology; paleontology; lands and realty; outdoor recreation; visual resource management; transportation management; minerals and geology; vegetation management (including forest and fire ecology); hydrology; soils; wildlife and Threatened and Endangered species management; and fisheries.

Dated: April 20, 2006.
Linda S.C. Rundell,
New Mexico State Director.

[FR Doc. E6-8087 Filed 5-25-06; 8:45 am]

BILLING CODE 4310-FB-P